DEPARTMENT OF ENERGY

Federal Energy Regulatory Commission

Combined Notice of Filings

Take notice that the Commission has received the following Natural Gas Pipeline Rate and Refund Report filings:

Docket Numbers: RP20-983-001.

Applicants: Gulf South Pipeline Company, LLC.

Description: Gulf South Pipeline Company, LLC submits tariff filing per 154.205(b): Amendment to Docket No. RP20-983-000 to be effective 7/1/2020 under RP20-983.

Filed Date: 07/21/20.

Accession Number: 20200722-5000.

Comments Due: 5pm ET 8/3/20.

Docket Numbers: RP20-1044-000.

Applicants: Iroquois Gas Transmission System, L.P.

Description: § 4(d) Rate Filing: 072820 Negotiated Rates—Emera Energy Services, Inc. R-2715-42 to be effective 9/1/2020.

Filed Date: 7/28/20.

Accession Number: 20200728-5031.

Comments Due: 5 p.m. ET 8/10/20.

Docket Numbers: RP20-1045-000.

Applicants: Texas Eastern Transmission, LP.

Description: § 4(d) Rate Filing: Negotiated Rates—Chevron K911109 releases—eff 8-1-2020 to be effective 8/1/2020.

Filed Date: 7/28/20.

Accession Number: 20200728-5090.

Comments Due: 5 p.m. ET 8/10/20.

Docket Numbers: RP20-1046-000.

Applicants: Elba Express Company, L.L.C.

Description: § 4(d) Rate Filing: Interim Update of Fuel Retention Rates—2020 to be effective 9/1/2020

Filed Date: 7/29/20.

Accession Number: 20200729-5021.

Comments Due: 5 p.m. ET 8/10/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2020.
Nathaniel J. Davis, Sr.,
Deputy Secretary.

[FR Doc. 2020-16951 Filed 8-3-20; 8:45 am]

BILLING CODE 6717-01-P